NATIONAL SCIENCE FOUNDATION

Astronomy and Astrophysics Advisory Committee; Notice of Meeting

In accordance with the Federal Advisory Committee Act (Pub., L. 92-463, as amended), the National Science Foundation (NSF) announces the following meeting:

Name and Committee Code: Astronomy and Astrophysics Advisory Committee (13883) (Hybrid).

Date and Time: January 29-30, 2026; 9:30 a.m.-5:30 p.m. eastern time.

Place: The Westin Alexandria, 400 Courthouse Sq., Alexandria, VA 22314.

This is a hybrid meeting. Members and the public may attend in-person or via Zoom.

Attendance and registration information for the meeting will be forthcoming on the AC website: https://www.nsf.gov/mps/ast/aaac.jsp.

Type of Meeting: Open.

Contact Person: Dr. Louise Edwards, Program Director, Division of Astronomical Sciences, National Science Foundation, 401 Dulany Street, Alexandria, VA 22314; Telephone: 703-292-7597.

Purpose of Meeting: To provide advice and recommendations to the National Science Foundation (NSF), the National Aeronautics and Space Administration (NASA) and the U.S. Department of Energy (DOE) on issues within the field of astronomy and astrophysics that are of mutual interest and concern to the agencies. To prepare the annual report.

Agenda: To provide advice and recommendations to the NSF, NASA and DOE on issues within the field of astronomy and astrophysics that are of mutual interest and concern to the agencies. To prepare the annual report.

Dated: December 29, 2025.
Crystal Robinson,
Committee Management Officer.

[FR Doc. 2025-24142 Filed 12-31-25; 8:45 am]

BILLING CODE 7555-01-P